DEPARTMENT OF ENERGY

Federal Energy Regulatory Commission

[Docket Nos. RP00-337-003 and RP01-93-003]

Kern River Gas Transmission Company; Notice of Compliance Filing

July 3, 2002.

Take notice that on June 28, 2002, Kern River Gas Transmission Company (Kern River) tendered for filing as part of its FERC Gas Tariff, Second Revised Volume No. 1, the tariff sheets listed in Appendix A of the filing.

Kern River states that the purpose of this filing is to comply with the directives of the Commission's “Order on Compliance with Order No. 637 and Second Order on Compliance with Order Nos. 587-G and 587-L,” (1) by filing actual tariff sheets consistent with the directives in the Order pertaining to scheduling equality, segmentation, discounting, netting and trading, and penalties; and (2) by explaining why it is not operationally feasible for Kern River to offer a park and loan service at this time.

Kern River states that it has served a copy of this filing upon each person designated on the official service list compiled by the Secretary in this proceeding.

Any person desiring to protest said filing should file a protest with the Federal Energy Regulatory Commission, 888 First Street, NE., Washington, DC 20426, in accordance with Section 385.211 of the Commission's Rules and Regulations. All such protests must be filed on or before July 10, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-17391 Filed 7-10-02; 8:45 am]

BILLING CODE 6717-01-P